DEPARTMENT OF VETERANS AFFAIRS

[OMB Control No. 2900-0874]

Agency Information Collection Activity: Employment Certification Form

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before November 18, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0874” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0874” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Section 116, Public Law 115-48; section 8006, Public Law 117-2.

Title: Employment Certification Form, VAF 22-10201.

OMB Control Number: 2900-0874.

Type of Review: Revision of a currently approved collection.

Abstract: On August 16, 2017, the President signed into law, the Harry W. Colmery Veterans Educational Assistance Act of 2017 (“Forever GI Bill”), Public Law 115-48, which amended title 38, United States Code to make certain improvements in the laws administered by the Secretary of Veterans Affairs (VA), and for other purposes. Section 116 of the law authorizes VA to establish a 5-year high technology pilot program for Veterans as an educational program provided by leading technology employers. Section 116 also requires that VA receive Employment Certification from School Certifying Officials (SCOs) and Veterans enrolled in the VET TEC pilot program.

Additionally, section 116 of Public Law 115-48, and section 8006 of Public Law 117-2, authorized VA to implement both the Veteran Employment through Technology Education Courses (VET TEC), and the Veteran Rapid Retraining Assistance Program (VRRAP), respectively. Both of these programs provide assistance to an eligible Veteran for the pursuit of a covered program of education. This form therefore allows Veterans who either participated in a VRRAP or VET TEC program to certify to VA that they have found employment in a field related to their program of education.

The VET TEC Employment Certification Form 22-10201, which is also used as the employment certification for VRRAP, will allow student Veterans and SCOs to certify that a student Veteran has obtained meaningful employment with the skills acquired during their training program funded by those programs. VA continues to require approval of this information collection, so that VA can verify Veteran employment, as required by the law. VA would not comply with statute, if we do not collect the Veteran Employment Certification. The new laws require VA to certify and verify employment for student Veterans, which aligns with the skills acquired during their training program, funded by the VET TEC program offered by the Department of Veterans Affairs.

Affected Public: Individuals or Households.

Estimated Annual Burden: 159 hours.

Estimated Average Burden Time per Respondent: 5 minutes.

Frequency of Response: Once.

Estimated Number of Respondents: 1,908.

By direction of the Secretary.
Maribel Aponte,
VA PRA Clearance Officer, Office of Enterprise and Integration/Data Governance Analytics, Department of Veterans Affairs.

[FR Doc. 2022-20141 Filed 9-16-22; 8:45 am]

BILLING CODE 8320-01-P